DEPARTMENT OF TRANSPORTATION

Federal Aviation Administration

Notice of Opportunity for Public Comment on Surplus Property Release at Henry Tift Myers Airport, Tifton, Georgia

AGENCY: Federal Aviation Administration (FAA), DOT.

ACTION: Notice.

SUMMARY: Under the provisions of Title 49, U.S.C. Section 47153(c), notice is being given that the FAA is considering a request from the Tift County Airport Authority to waive the requirement that a 9.246-acre parcel of surplus property, located at the Henry Tift Myers Airport, be used for aeronautical purposes.

DATES: Comments must be received on or before February 4, 2002.

ADDRESSES: Comments on this notice may be mailed or delivered in triplicate to the FAA at the following address: Atlanta Airports District Office, 1701 Columbia Ave, Suite 2-260, Campus Building, College Park, GA 30337-2747.

In addition, one copy of any comments submitted to the FAA must be mailed to Dr. Greg Anderson, Authority Chairman, of the Tift County Airport Authority at the following address: PO Box 826, Tifton, GA 31793-0826.

FOR FURTHER INFORMATION CONTACT: Rusty Nealis, Program Manager, Atlanta Airports District Office, 1701 Columbia Ave, Suite 2-260, Campus Building, College Park, GA 30337-2747, (404) 305-7142. The Application may be reviewed in person at this same location.

SUPPLEMENTARY INFORMATION: The FAA is reviewing a request by Tift County Airport Authority to release 9.246 acres of surplus property at the Henry Tift Myers Airport. The property will be purchased by Georgia Department of Transportation and will used as their maintenance facility as it has been for over 20 years. The use of this property as a maintenance facility has never adversely effected the airport's operations and is considered compatible. The property fronts State Route 125 and is adjacent and east of the existing National Guard Facility. The net proceeds from the sale of this property will be used for airport purposes.

Any person may inspect the request in person at the FAA office listed above under FOR FURTHER INFORMATION CONTACT. In addition, any person may, upon request, inspect the request, notice and other documents germane to the request in person at the Tift County Airport Authority.

Issued in Atlanta, Georgia, on November 20, 2001.
Scott L. Seritt,
Manager, Atlanta Airports District Office, Southern Region.

[FR Doc. 02-167 Filed 1-3-02; 8:45 am]

BILLING CODE 4910-13-M